DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by February 20, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Milwaukee County Zoological Gardens, Milwaukee, WI, PRT-134697

The applicant requests a permit to import one male jaguar (Panthera onca), originally removed from the wild in Belize as a nuisance animal, from the Belize Zoo for the purpose of enhancement of the survival of the species through captive breeding and public display.

Applicant: The Zoological Society of San Diego, San Diego, CA, PRT 778487

The applicant requests reissuance of their permit for scientific research with four giant pandas (Ailuropoda melanoleuca) currently held under loan agreement with the Government of China under the provisions of the USFWS Panda Policy. The proposed research will cover all aspects of behavior, reproductive physiology, genetics, nutrition, and animal health and is a continuation of activities currently in progress. This notification covers activities to be conducted by the applicant over a five-year period.

Applicant: Smithsonian's National Zoological Park, Washington, DC, PRT 700309

The applicant requests amendment of their permit, which allows import, export, re-export and interstate and foreign commerce with biological samples of exotic endangered and threatened species for the purpose of scientific research, to add salvage specimens of the native gray wolf (Canis lupus) for specific scientific studies into the genetic relationship of the species. This amendment is for the duration of the permit though 11/13/2010.

Applicant: Daniel M. Alegre Sr., Fallon, NV, PRT-141476

The applicant requests a permit to import the sport-hunted trophy of one male bontebok (Damaliscus pygargus pygargus) culled from a captive herd maintained under the management program of the Republic of South Africa, for the purpose of enhancement of the survival of the species.

Applicant: Gary W. John, Prescott, AZ, PRT-141388

The applicant requests a permit to import the sport-hunted trophy of one male bontebok (Damaliscus pygargus pygargus) culled from a captive herd maintained under the management program of the Republic of South Africa, for the purpose of enhancement of the survival of the species.

Applicant: Molly M. Hedgecock, High Point, NC, PRT-137759

The applicant requests a permit to import the sport-hunted trophy of one male bontebok (Damaliscus pygargus pygargus) culled from a captive herd maintained under the management program of the Republic of South Africa, for the purpose of enhancement of the survival of the species.

Applicant: Louis M. Blanchard, Las Vegas, NV, PRT-138763

The applicant requests a permit to import the sport-hunted trophy of one male bontebok (Damaliscus pygargus pygargus) culled from a captive herd maintained under the management program of the Republic of South Africa, for the purpose of enhancement of the survival of the species.

Applicant: Thomas R. Lentz, Wichita, KS, PRT-141937

The applicant requests a permit to import the sport-hunted trophy of one male bontebok (Damaliscus pygargus pygargus) culled from a captive herd maintained under the management program of the Republic of South Africa, for the purpose of enhancement of the survival of the species.

Applicant: Timothy G. Fitzsimmons, Cape Haze, FL, PRT-134393

The applicant requests a permit to import the sport-hunted trophies of two male Formosan sika deer (Cervus nippon taiouanus) taken in the United Kingdom, for the purpose of enhancement of the survival of the species.

Applicant: Randy Miller's Predators In Action, Big Bear City, CA, PRT-835802, 063077, 012984

The applicant requests permits to export three captive born tigers (Panthera tigris) to worldwide locations for the purpose of enhancement of the species through conservation education. The permit numbers and animals are: 835802, Shirkon; 063077, Tara; and 012984, name unknown. This notification covers activities to be conducted by the applicant over a three-year period and the import of any potential progeny born while overseas.

Dated: December 8, 2006.
Lisa J. Lierheimer,
Senior Permit Biologist, Branch of Permits, Division of Management Authority.

[FR Doc. E7-749 Filed 1-18-07; 8:45 am]

BILLING CODE 4310-55-P